SUSQUEHANNA RIVER BASIN COMMISSION

Actions Taken at June 16, 2017, Meeting

AGENCY: Susquehanna River Basin Commission.

ACTION: Notice.

SUMMARY: As part of its regular business meeting held on June 16, 2017, in Entriken, Pennsylvania, the Commission took the following actions: (1) Approved or tabled the applications of certain water resources projects; and (2) took additional actions, as set forth in the Supplementary Information below.

DATES: June 16, 2017.

ADDRESSES: Susquehanna River Basin Commission, 4423 N. Front Street, Harrisburg, PA 17110-1788.

FOR FURTHER INFORMATION CONTACT: Jason E. Oyler, General Counsel, telephone: 717-238-0423, ext. 1312; fax: 717-238-2436; joyler@srbc.net. Regular mail inquiries may be sent to the above address. See also Commission Web site at www.srbc.net.

SUPPLEMENTARY INFORMATION: In addition to the actions taken on projects identified in the summary above and the listings below, the following items were also presented or acted upon at the business meeting: (1) Election of the member from the Federal Government as Chair of the Commission and the member from the State of New York as the Vice Chair of the Commission for the period of July 1, 2017, to June 30, 2018; (2) adoption of FY2018 Regulatory Program Fee Schedule, effective July 1, 2017; (3) adoption of a preliminary FY2019 budget for the period July 1, 2018, to June 30, 2019; (4) authorization to execute a treasury management services agreement with First National Bank; (5) approval/ratification of a grant agreement, two contracts and a bank loan payoff; (6) approval of a rulemaking action to clarify application requirements and standards for review of projects, amend the rules dealing with the mitigation of consumptive uses, add a subpart to provide for registration of grandfathered projects and revise requirements dealing with hearings and enforcement actions; (7) denied a request for waiver from EOG Resources Inc.; (8) tabled a request for waiver from Middletown Borough; (9) approval to extend the term of an emergency certificate with Susquehanna Nuclear, LLC until terminated by the Executive Director; (10) adoption of the FY2018-2019 Water Resources Program; (11) adoption of amendments to the Comprehensive Plan for the Water Resources of the Susquehanna River Basin; and (12) a report on delegated settlements with the following project sponsors, pursuant to SRBC Resolution 2014-15: Albany International Corp., in the amount of $8,500; and Tanglewood Manor, Inc., in the amount of $2,500.

Project Applications Approved

The Commission approved the following project applications:

1. Project Sponsor and Facility: Town of Big Flats, Chemung County, NY. Groundwater withdrawal of up to 0.778 mgd (30-day average) from Well 1-1.

2. Project Sponsor and Facility: Michael and Sandra Buhler (Bennett Branch Sinnemahoning Creek), Huston Township, Clearfield County, PA. Renewal of surface water withdrawal of up to 0.999 mgd (peak day) (Docket No. 20130603).

3. Project Sponsor and Facility: Chesapeake Appalachia, LLC (Susquehanna River), Mehoopany Township, Wyoming County, PA. Renewal of surface water withdrawal of up to 0.999 mgd (peak day) (Docket No. 20130303).

4. Project Sponsor and Facility: Chesapeake Appalachia, LLC (Susquehanna River), Wysox Township, Bradford County, PA. Renewal of surface water withdrawal of up to 0.999 mgd (peak day) (Docket No. 20130304).

5. Project Sponsor and Facility: Chesapeake Appalachia, LLC (Wyalusing Creek), Rush Township, Susquehanna County, PA. Surface water withdrawal of up to 0.715 mgd (peak day).

6. Project Sponsor and Facility: DS Services of America, Inc., Clay Township, Lancaster County, PA. Groundwater withdrawal of up to 0.028 mgd (30-day average) from existing Well 4.

7. Project Sponsor and Facility: DS Services of America, Inc., Clay Township, Lancaster County, PA. Groundwater withdrawal of up to 0.042 mgd (30-day average) from existing Well 5.

8. Project Sponsor and Facility: Ephrata Area Joint Authority, Ephrata Borough, Lancaster County, PA. Modification to request a combined withdrawal limit for Well 1, Cocalico Creek, and Mountain Home Springs of 2.310 mgd (30-day average) (Docket No. 20110902).

9. Project Sponsor and Facility: Equipment Transport, LLC (Susquehanna River), Great Bend Township, Susquehanna County, PA. Renewal of surface water withdrawal of up to 1.000 mgd (peak day) (Docket No. 20130613).

10. Project Sponsor and Facility: Kraft Heinz Foods Company, Town of Campbell, Steuben County, NY. Renewal of groundwater withdrawal of up to 0.299 mgd (30-day average) from Well 3 (Docket No. 19860203).

11. Project Sponsor and Facility: Mount Joy Borough Authority, Mount Joy Borough, Lancaster County, PA. Modification to request a reduction of the maximum instantaneous rate for Well 3 from the previously approved rate of 1,403 gpm to 778 gpm and revise the passby to be consistent with current Commission policy (Docket No. 20070607). The previously approved withdrawal rate of 1.020 mgd (30-day average) will remain unchanged.

12. Project Sponsor: P.H. Glatfelter Company. Project Facility: Paper/Pulp Mill and Cogen Operations (Codorus Creek), Spring Grove Borough, York County, PA. Renewal of surface water withdrawal of up to 16.000 mgd (peak day) (Docket No. 19860602).

13. Project Sponsor: P.H. Glatfelter Company. Project Facility: Paper/Pulp Mill and Cogen Operations, Spring Grove Borough, York County, PA. Renewal of consumptive water use of up to 0.900 mgd (peak day) (Docket No. 19860602).

14. Project Sponsor and Facility: Rausch Creek Land, L.P., Porter Township, Schuylkill County, PA. Renewal of groundwater withdrawal of up to 0.100 mgd (30-day average) from Pit #21 (Docket No. 20120612).

15. Project Sponsor and Facility: Repsol Oil & Gas USA, LLC (Towanda Creek), Franklin Township, Bradford County, PA. Renewal of surface water withdrawal of up to 1.000 mgd (peak day) (Docket No. 20130311).

16. Project Sponsor and Facility: Spring Township Water Authority, Spring Township, Centre County, PA. Groundwater withdrawal of up to 0.499 mgd (30-day average) from Cerro Well.

17. Project Sponsor and Facility: Warren Marcellus LLC (Susquehanna River), Washington Township, Wyoming County, PA. Renewal of surface water withdrawal of up to 0.999 mgd (peak day) (Docket No. 20130305).

Project Applications Tabled

The Commission tabled action on the following project applications:

1. Project Sponsor: Talen Energy Corporation. Project Facility: Royal Manchester Golf Links, East Manchester Township, York County, PA. Minor modification to add new sources (Wells PW-1 and PW-6) to existing consumptive use approval (Docket No. 20060604). The previously approved consumptive use quantity of 0.360 mgd (peak day) will remain unchanged.

2. Project Sponsor: Talen Energy Corporation. Project Facility: Royal Manchester Golf Links, East Manchester Township, York County, PA. Application for groundwater withdrawal of up to 0.145 mgd (30-day average) from Well PW-1.

3. Project Sponsor: Talen Energy Corporation. Project Facility: Royal Manchester Golf Links, East Manchester Township, York County, PA. Application for groundwater withdrawal of up to 0.298 mgd (30-day average) from Well PW-6.

4. Project Sponsor and Facility: Village of Waverly, Tioga County, NY. Application for groundwater withdrawal of up to 0.320 mgd (30-day average) from Well 1.

5. Project Sponsor and Facility: Village of Waverly, Tioga County, NY. Application for groundwater withdrawal of up to 0.480 mgd (30-day average) from Well 2.

6. Project Sponsor and Facility: Village of Waverly, Tioga County, NY. Application for groundwater withdrawal of up to 0.470 mgd (30-day average) from Well 3.

Project Applications Approved Involving a Diversion

1. Project Sponsor and Facility: City of DuBois, Union Township, Clearfield County, PA. Modification to the diversion from Anderson Creek Reservoir by expansion of the existing service area as a result of interconnection and bulk water supply to Falls Creek Borough Municipal Authority (Docket No. 20060304).

2. Project Sponsor: Seneca Resources Corporation. Project Facility: Impoundment 1, receiving groundwater from Seneca Resources Corporation Wells 5H and 6H and Clermont Wells 1, 2, North 2, 3, and 4, Norwich and Sergeant Townships, McKean County, PA. Modification to add four additional sources (Clermont North Well 1, Clermont North Well 3, Clermont South Well 7, and Clermont South Well 10) and increase the into-basin diversion from the Ohio River Basin by an additional 1.044 mgd (peak day), for a total of up to 3.021 mgd (peak day) (Docket No. 20141216).

Authority: Pub. L. 91-575, 84 Stat. 1509 et seq., 18 CFR parts 806, 807, and 808.

Dated: June 27, 2017.
Stephanie L. Richardson,
Secretary to the Commission.

[FR Doc. 2017-13914 Filed 6-30-17; 8:45 am]

BILLING CODE 7040-01-P